OFFICE OF THE UNITED STATES TRADE REPRESENTATIVE

[Docket Number USTR-2022-0003]

Postponement of Meetings of the United States-Colombia Environmental Affairs Council and Environmental Cooperation Commission

AGENCY: Office of the United States Trade Representative.

ACTION: Postponement of meetings and extended deadline to submit comments.

SUMMARY: On March 22, 2022, the Office of the United States Trade Representative (USTR) and the U.S. Department of State (State) announced that the parties to the United States-Colombia Trade Promotion Agreement (TPA) and the United States-Colombia Environmental Cooperation Agreement (ECA) intended to hold meetings of the Environmental Affairs Council (Council) and Environmental Cooperation Commission (Commission). USTR and State are postponing the meetings and will announce rescheduled dates. USTR will continue to accept written comments.

DATES:

Comments: USTR is waiving the March 30, 2022, submission deadline and encourages interested persons to file comments and supporting documentation via www.regulations.gov, using docket number USTR-2022-0003. The instructions for submission are in the `Requirements for Submissions' section of the notice published on March 22, 2022 (87 FR 16302). For alternatives to online submissions, please contact Katy Sater at mary.c.sater@ustr.eop.gov, (202) 395-9522, or Sarah Flores at FloresSC@state.gov, (202) 647-0156.

Meetings: The closed government-to-government and public meetings scheduled for April 7, 2022, are postponed and will be rescheduled at later date. The time and location of the rescheduled meetings will be available on the USTR and State websites.

FOR FURTHER INFORMATION CONTACT: Katy Sater, Director for Environment and Natural Resources, USTR, mary.c.sater@ustr.eop.gov, (202) 395-9522, or Sarah Flores, Bureau of Oceans and International Environmental and Scientific Affairs, Office of Environmental Quality and Transboundary Issues, State, FloresSC@state.gov, (202) 647-0156.

Kelly Milton,
Assistant U.S. Trade Representative for Environment and Natural Resources, Office of the United States Trade Representative.

[FR Doc. 2022-06766 Filed 3-30-22; 8:45 am]

BILLING CODE 3390-F2-P